NATIONAL SCIENCE FOUNDATION

Sunshine Act Meetings

The National Science Board (NSB) hereby gives notice of the scheduling of two videoconferences for the transaction of National Science Board business, pursuant to the National Science Foundation Act and the Government in the Sunshine Act.

TIME AND DATE: Closed videoconference of the Committee on Strategy (CS), to be held Wednesday, August 24, 2022, from 12:00-12:45 p.m. EDT.

Closed videoconference of the National Science Board (NSB), to be held Wednesday, August 24, 2022, at 12:45-1:00 p.m. EDT.

PLACE: These meetings will be held by videoconference organized through the National Science Foundation.

STATUS: Closed.

MATTERS TO BE CONSIDERED:

CS meeting: Chair's remarks; approval of prior minutes; review and discussion of NSF's FY 2024 budget submission to the Office of Management and Budget (OMB) and proposed CS recommendation that the Board vote on the transmittal to OMB of the FY 2024 budget submissions for NSF and OIG.

NSB meeting: Chair's remarks; review and discussion of the NSB's FY 2024 budget submission to OMB; vote on transmittal to OMB of the FY 2024 budget submissions for NSF, NSB and OIG.

CONTACT PERSON FOR MORE INFORMATION Point of contact for this meeting is: Chris Blair, (703) 292-7000, cblair@nsf.gov. You may find meeting information and updates at https://www.nsf.gov/nsb/meetings/index.jsp.

Chris Blair,
Executive Assistant to the National Science Board Office.

[FR Doc. 2022-18196 Filed 8-23-22; 11:15 am]

BILLING CODE 7555-01-P